DEPARTMENT OF ENERGY

Federal Energy Regulatory Commission

[Project Nos: 2942-005, 2931-002, 2941-002, 2932-003, and 2897-003—Maine Dundee, Gambo, Little Falls, Mallison Falls, and Saccarappa Projects]

S.D. Warren Company; Notice of Intent To Prepare an Environmental Impact Statement

March 16, 2000.

The Federal Energy Regulatory Commission (Commission) received applications for new licenses for the continued operation and maintenance of the existing Dundee Project, FERC No. 2942-005; Gambo Project, FERC No. 2931-002, Little Falls Project, FERC No. 2941-002; Mallison Falls Project, FERC No. 2932-003; and Saccarappa Project, FERC No. 2897-003, henceforth known as the Presumpscot River Projects, on January 22, 1999. The Presumpscot River Projects are located on the Presumpscot River, in Cumberland County, Maine and would have a combined installed capacity of 7.45 magawatts.

Following the public scoping process, the Commission staff determined that licensing of the Presumpscot River Projects could constitute a major federal action significantly affecting the quality of the human environment. Therefore the staff intends to prepare an Environmental Impact Statement (EIS) for the Presumpscot River Projects in accordance with the National Environmental Policy Act (NEPA).

The staff's EIS will objectively consider both site-specific and cumulative environmental impacts of the projects and reasonable alternatives, and will include economic and engineering analyses.

A draft EIS (DEIS) will be issued and circulated for review by all interested parties. All comments filed on the DEIS will be analyzed by the staff and considered in the final EIS (FEIS). The staff's conclusions and recommendations will then be presented for the consideration of the Commission in reaching its final licensing decisions.

This notice informs all interested individuals, organizations and agencies with environmental expertise and concerns, that: (1) The Commission staff has decided to prepare an EIS; (2) the scoping conducted on the Presumpscot River Projects for the Environmental Assessment (EA)—scoping meetings held August 25 and 26, 1999, in Windham, Maine, and comments filed with the Commission by September 26, 1999—still apply; and (3) additional comments for the Presumpscot River Projects that may result from the change from an EA to an EIS may be filed with the Secretary, Federal Energy Regulatory Commission, 888 First Street, NE., Washington, DC 20426, within 30 days from the date of this notice.

All written correspondence should clearly show the following caption on the first page:

Dundee Project, FERC No. 2942-0005; Little Falls Project, FERC No. 2941-002; Mallison Falls Project, FERC No. 2932-003; Gambo Prject, FERC No. 2931-002; and Saccarappa Project, FERC No. 2897-003

Intervenors—those on the Commission's service list for this proceeding (parties)—are reminded of the Commission's Rules of Practice and procedure, requiring parties filing documents with the Commission, to serve a copy of the document on each person whose name appears on the official service list.¹ Further, if a party or intervenor files comments or documents with the Commission relating to the merits of an issue that may affect the responsibilities of a particular resource agency, they must also serve a copy of the document on that resource agency.

Any questions regarding this notice may be directed to Bob Easton, Environmental Coordinator, at (202) 219-2782 or Robert.Easton@ferc.fed.us.

¹ The official service list can be obtained by calling the Office of the Secretary, Dockets Branch, at (202) 208-2020.

David P. Boergers,
Secretary.

[FR Doc. 00-7030 Filed 3-21-00; 8:45am]

BILLING CODE 6717-01-M